Title 3—

The President

Executive Order 13452 of November 28, 2007

Establishing an Emergency Board To Investigate Disputes Between the National Railroad Passenger Corporation and Certain of Its Employees Represented by Certain Labor Organizations

Disputes exist between National Railroad Passenger Corporation (Amtrak) and certain of its employees represented by certain labor organizations. The labor organizations involved in these disputes are designated on the attached list, which is made a part of this order.

The disputes have not heretofore been adjusted under the provisions of the Railway Labor Act, as amended (45 U.S.C. 151 et seq.) (RLA).

In the judgment of the National Mediation Board, these disputes threaten substantially to interrupt interstate commerce to a degree that would deprive sections of the country of essential transportation service.

NOW, THEREFORE, by the authority vested in me as President by the Constitution and the laws of the United States, including section 10 of the RLA (45 U.S.C. 160), it is hereby ordered as follows:

Section 1. Establishment of Emergency Board (Board). There is established, effective 12:01 a.m. eastern standard time on December 1, 2007, a Board of five members to be appointed by the President to investigate and report on these disputes. No member shall be pecuniarily or otherwise interested in any organization of railroad employees or any carrier. The Board shall perform its functions subject to the availability of funds.

Sec. 2. Report. The Board shall report to the President with respect to the disputes within 30 days of its creation.

Sec. 3. Maintaining Conditions. As provided by section 10 of the RLA, from the date of the creation of the Board and for 30 days after the Board has submitted its report to the President, no change in the conditions out of which the disputes arose shall be made by the parties to the controversy, except by agreement of the parties.

Sec. 4. Records Maintenance. The records and files of the Board are records of the Office of the President and upon the Board's termination shall be maintained in the physical custody of the National Mediation Board.

Sec. 5. Expiration. The Board shall terminate upon the submission of the report provided for in section 2 of this order.

THE WHITE HOUSE,

November 28, 2007.

Billing code 3195-01-P

LABOR ORGANIZATIONS

Brotherhood of Maintenance of Way Employes

International Brotherhood of Electrical Workers

International Association of Machinists and Aerospace Workers

Brotherhood of Railroad Signalmen

Joint Council of Carmen, comprised of the Transportation Communications International Union/Brotherhood Railway Carmen Division and the Transport Workers Union of America

American Train Dispatchers Association

National Conference of Firemen & Oilers/Service Employees International Union

Transportation Communications International Union—American Railway and Airline Supervisors Association

[FR Doc. 07-5919

Filed 11-29-07; 8:57 am]

Billing code 3195-01-P